COMMISSION ON CIVIL RIGHTS

Notice of Public Meeting of the Puerto Rico Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Puerto Rico Advisory Committee to the Commission will convene by virtual web conference on Wednesday, November 16, 2022, at 1 p.m. (AT). The purpose is to discuss the committee's draft project proposal on the civil rights impacts of the Insular Cases and the doctrine of the unincorporated territory.

DATES: November 16, 2022, Wednesday, at 1 p.m. (AT); [12 p.m. ET].

ADDRESSES:

• To join by web conference, use Zoom link: https://tinyurl.com/4pt9m9vr; password, if needed: USCCR-PR.

• To join by phone only, dial 1-551-285-1373; Meeting ID: 160 588 8392#.

FOR FURTHER INFORMATION CONTACT: Victoria Moreno at vmoreno@usccr.gov or by phone at 434-515-0204.

SUPPLEMENTARY INFORMATION: This meeting will be held in Spanish with English interpretation available. This meeting is available to the public through the link above. If joining via phone only, callers can expect to incur charges for calls they initiate over wireless lines, and the Commission will not refund any incurred charges. Also please keep in mind if joining via phone only, no interpretation to English will be available unless you join via the link above or via the Zoom app on your device.

Individuals who are deaf, deafblind, and hard of hearing may also follow the proceedings by first calling the Federal Relay Service at 1-800-877-8339 and providing the Service with the call-in number found through registering at the web link provided above for the meeting.

Members of the public are entitled to make comments during the open period at the end of the meeting. Members of the public may also submit written comments; the comments must be received in the Regional Programs Unit within 30 days following the respective meeting. Written comments may be emailed to Victoria Moreno at vmoreno@usccr.gov. All written comments received will be available to the public.

Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

Wednesday, November 16, 2022; 1 p.m. (AT); [12 p.m. ET]

1. Welcome & Roll Call

2. Committee Discussion and Review of Project Proposal

3. Next Steps

4. Public Comment

5. Other Business

6. Adjourn

Dated: October 27, 2022.
David Mussatt,
Supervisory Chief, Regional Programs Unit.

[FR Doc. 2022-23707 Filed 10-31-22; 8:45 am]

BILLING CODE P